SMALL BUSINESS ADMINISTRATION

Transfer of Responsibility

AGENCY: U.S. Small Business Administration.

ACTION: Notice of transfer of responsibility.

SUMMARY: This document provides the public with notice that the Administrator of the Small Business Administration (SBA) has transferred the responsibilities previously assigned to the Agency Licensing Committee related to the licensing of Small Business Investment Companies and transferred those responsibilities to the Chief Financial Officer, Chief Operating Officer, and Chief of Staff through the Agency's internal clearance process.

FOR FURTHER INFORMATION CONTACT: Arthur Spivey, Office of Investment and Innovation, U.S. Small Business Administration, 409 3rd Street SW, Washington, DC 20416; (202) 205-7098 or arthur.spivey@sba.gov.

SUPPLEMENTARY INFORMATION: This document provides the public with notice of the Administrator's transfer of responsibilities previously assigned to the Agency Licensing Committee (September 21, 2023, 88 FR 65222) to review and make recommendations to the Administrator relative to licenses to operate as a small business investment company under the Small Business Investment Act of 1958, as amended, and transferred those responsibilities to the Chief Financial Officer, Chief Operating Officer, and Chief of Staff through the Agency's internal clearance process.

This transfer reads as follows:

Pursuant to the authority vested in me pursuant to section 301 of the Small Business Investment Act of 1958, as amended, the responsibilities previously assigned to the Agency Licensing Committee to take any and all actions necessary to review applications for licensing under section 301 of the Small Business Investment Act of 1958, as amended, and to recommend which such applications should be approved is hereby transferred to the Chief Financial Officer, Chief Operating Officer, and Chief of Staff through the agency's internal clearance process.

Isabella Casillas Guzman,
Administrator.

[FR Doc. 2025-00864 Filed 1-15-25; 8:45 am]

BILLING CODE P